DEPARTMENT OF COMMERCE

National Oceanic and Atmospheric Administration

[Docket No. 001027300-5242-02]

The Argo Project: Global Ocean Observations for Understanding and Prediction of Climate Variability

AGENCY: Office of Oceanic and Atmospheric Research, National Oceanic and Atmospheric Administration, Department of Commerce.

ACTION: Notice of request for proposals.

SUMMARY: The purpose of this notice is to advise the public that the Office of Oceanic and Atmospheric Research (OAR), on behalf of the National Ocean Partnership Program (NOPP), is entertaining preliminary proposals (Letters of Intent) and subsequently full proposals for sustaining (e.g., deployment, data management, technology infusion) the U.S. contribution to the global Argo array of profiling floats and develop the technology, principles and protocols to transition Argo to pre-operational status. It is expected that approximately $9,200,000 annually will be available for the project.

DATES: October 31, 2005, 5 p.m. (ET)—Letter of Intent in electronic, facsimile, or hard copy form due. Letters of Intent are used for assessment purposes only and are not a requirement for proposal submission.

December 16, 2005, 5 p.m. (ET)—Proposal due.

Proposals submitted through http://www.grants.gov will be accompanied by a data and time receipt indication on them. If an applicant does not have internet access, hard copy proposals will be accepted and date recorded when they are received in the program office. Electronic or hard copies of proposals received after the deadline will not be considered and hard copy applications will be returned to the sender.

ADDRESSES: Letters of Intent should be sent electronically to: Steve.Piotrowicz@noaa.gov. For those applicants without internet access, hard copies may be mailed to Ocean.US, 2300 Clarendon Blvd., Suite 1350, Arlington, VA 22201; Attn: Stephen R. Piotrowicz. Faxes may be sent to: Ocean.US, Attn: Stephen R. Piotrowicz at (703) 588-0872. Proposals should be submitted through Grants.gov. For those applicants without Internet access, hard copies may be sent to Ocean.US, 2300 Clarendon Blvd., Suite 1350, Arlington, VA 22201; Attn: Dr. Stephen R. Piotrowicz.

FOR FURTHER INFORMATION CONTACT: Dr. Stephen R. Piotrowicz, telephone: (703) 588-0850; facsimile: (703) 588-0872; e-mail: Steve.Piotrowicz@noaa.gov.

SUPPLEMENTARY INFORMATION:

Program Authority

Authority: 49 U.S.C. 44720 (b); 33 U.S.C. 883d, 15 U.S.C. 2904; 15 U.S.C. 2931-2934, (CFDA No. 11.431)—CLIMATE AND ATMOSPHERIC RESEARCH.

Electronic Access

The full text of the full funding opportunity announcement for this program can be accessed via the Grants.gov FIND Web site. This announcement will also be available at the NOAA Web site: http://www.ofa.noaa.gov/%7Eamd/SOLINDEX.HTML or by contacting the program officials identified under FOR FURTHER INFORMATION CONTACT. This Federal Register notice is available through the NOAA home page at: http://www.noaa.gov.

Background

The NOPP was established by 10 U.S.C. 7902 et seq. to (1) promote the national goals of assuring national security, advancing economic development, protecting quality of life, and strengthening science education and communication through improved knowledge of the ocean; and (2) coordinate and strengthen oceanographic efforts in support of those goals by identifying and carrying out partnerships among Federal agencies, academia, industry, and other members of the oceanographic scientific community in the areas of data, resources, education, and communication. In 1999, Argo was identified as a key NOPP program and selected for implementation. Beginning in FY 2006 NOAA intends to complete the development and deployment of the initial phase of Argo and begin to demonstrate the sustained operation of Argo. Contingent on the availability of appropriated funds, this phase of Argo is expected to continue for five years. The level of funding available each year will be dependent on appropriations.

Funding Availability

The Office of Oceanic and Atmospheric Research (OAR), on behalf of the National Ocean Partnership Program (NOPP), is entertaining letters of Intent and subsequently full proposals for implementing the next phase of the U.S. contribution to the global Argo array of profiling floats. Beginning in FY 2006 NOAA intends to complete the development and deployment of the initial phase of Argo and begin to demonstrate the sustained operation of Argo. Contingent on the availability of appropriated funds, this phase of Argo is expected to continue for five years. The level of funding available each year will be dependent on appropriations. It is expected that approximately $9,200,000 annually will be available for the project. It is expected that one, multi-investigator award will be made.

Eligibility

Extramural eligibility is not limited. Eligible applicants include institutions of higher education, other non-profits, commercial organizations, international organizations, state, local and Indian tribal governments. Applications from non-Federal and Federal applicants will be competed against each other. Please Note: Before non-NOAA Federal applicants may be funded, they must demonstrate that they have legal authority to receive funds from another Federal agency in excess of their appropriation. The only exception to this is governmental research facilities for awards issued under the authority of 49 U.S.C. 44720. Because this announcement is not proposing to procure goods or services from applicants, the Economy Act (31 U.S.C. 1535) is not an appropriate legal basis for receipt of Federal funds.

Cost Sharing

Cost sharing or matching is not required; however, resource sharing amongst partners within NOPP programs is encouraged.

Letter of Intent

To prevent the expenditure of effort that may not be successful, proposers are encouraged to first submit Letters of Intent. Letters of Intent are used for assessment purposes only and are not a requirement for proposal submission. Letters of Intent must be single or double-spaced, typewritten in at least a 10-point font, and printed on metric A4 (210 mm x 297 mm) or 8½″ x 11″ paper. The following information should be included:

(a) Title page: The title page should clearly identify the project area being addressed by starting the project title with “The Argo Project: Global ocean observations for understanding and prediction of climate variability.” Principal Investigators and collaborators should be identified by affiliation and contact information. The total amount of Federal funds and matching funds being requested should be listed for each budget period.

(b) A concise (2-page limit) description of the project. Proposers may wish to use the Evaluation Criteria for additional guidance in preparing the Letter of Intent.

(c) Resumes (1-page limit) of the Principal Investigators.

Evaluation and Selection Procedures

NOAA published its agency-wide solicitation entitled “Omnibus Notice Announcing the Availability of Grant Funds for Fiscal Year 2006” for projects for Fiscal Year 2006 in the Federal Register on June 30, 2005 (70 FR 37766). The evaluation criteria and selection procedures for projects contained in that omnibus notice are applicable to this solicitation. Copies of this notice are available on the Internet at http://www.ofa.noaa.gov/%7Eamd/SOLINDEX.HTML. Further details on evaluation and selection criteria can be found in the full funding opportunity announcement.

Preaward Activities

If applicants incur any costs prior to an award being made, they do so solely at their own risk of not being reimbursed by the Government. Notwithstanding any verbal assurance that may have been received, there is no obligation to the applicant on the part of Department of Commerce to cover pre-award costs.

Limitation of Liability

Funding for this project is contingent upon the availability of FY 2006-2010 appropriations. Publication of this announcement does not obligate the Department of Commerce to award any funds if the program fails to receive funding or is cancelled because of other agency priorities. Renewal of an award to increase funding or extend the period of performance is at the discretion of the Department of Commerce.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: (http://www.nepa.noaa.gov/), including our NOAA Administrative Order 216-6 for NEPA, (http://www.nepa.noaa.gov/NAO216_6_TOC.pdf), and the Council on Environmental Quality implementation regulations, (http://ceq.eh.doe.gov/nepa/regs/ceq/toc_ceq.htm). Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required.

Applicants will also be required to cooperate with NOAA in identifying and implementing feasible measures to reduce or avoid any identified adverse environmental impacts of their proposal. The failure to do so shall be grounds for the denial of an application. In some cases if additional information is required after an application is selected, funds can be withheld by the Grants Officer under a special award condition requiring the recipient to submit additional environmental compliance information sufficient to enable NOAA to make an assessment on any impacts that a project may have on the environment.

The Department of Commerce Preaward Notification Requirements for Grants and Cooperative Agreements

The Department of Commerce Pre-Award Notification Requirements for Grants and Cooperative Agreements contained in the Federal Register notice of December 30, 2004 (69 FR 78389), are applicable to this solicitation.

Paperwork Reduction Act

This notice contains collection of information requirements subject to the Paperwork Reduction Act (PRA). The use of Standard Forms 424, 424A, 424B, SF-LLL and CD-346 have been approved by OMB under the respective control numbers 0348-0040 and 0348-0043. Notwithstanding any other provision of the law, no person is required to respond to, nor shall any person be subject to a penalty for failure to comply with, a collection of information subject to the requirements of the Paperwork Reduction Act, unless that collection of information displays a currently valid OMB control number.

Executive Order 12866

This notice has been determined to be not significant for purposes of Executive Order 12866.

Executive Order 13132

It has been determined that this notice does not contain policies with federalism implications as that term is defined in Executive Order 13132.

Intergovernmental Review

Applications under this program are not subject to Executive Order 12372, “Intergovernmental Review of Federal Programs.”

Administrative Procedure Act/Regulatory Flexibility Act

Prior notice and an opportunity for public comments are not required by the Administrative Procedure Act or any other law for this rule concerning grants, benefits, and contracts (5 U.S.C. section 553[a]). Because notice and opportunity for comment are not required pursuant to 5 U.S.C. 553 or any other law, the analytical requirements of the Regularity Flexibility Act (5 U.S.C. section 601 et seq.) are inapplicable. Therefore, a regulatory flexibility analysis has not been prepared.

Dated: September 27, 2005.
Louisa Koch,
Deputy Assistant Administrator, Office of Oceanic and Atmospheric Research, National Oceanic and Atmospheric Administration.

[FR Doc. 05-19644 Filed 9-29-05; 8:45 am]

BILLING CODE 3510-22-P